DEPARTMENT OF COMMERCE

International Trade Administration

[A-421-804]

Certain Cold-Rolled Carbon Steel Flat Products From the Netherlands: Final Results of Changed Circumstances Review

AGENCY: Import Administration, International Trade Administration, U.S. Department of Commerce.

ACTION: Final results of changed circumstances review.

EFFECTIVE DATE: March 5, 2002.

SUMMARY: On November 15, 2001, the Department of Commerce (“the Department”) published a notice of initiation and preliminary results of a changed circumstances review for a revocation of the antidumping duty order on certain cold-rolled carbon steel flat products from the Netherlands at the request of a letter dated September 18, 2001 from Bethlehem Steel Corporation, LTV Steel Company, Inc., National Steel Corporation, and United States Steel LLC (collectively, “petitioners”). The Department issued its preliminary results and intent to revoke the antidumping duty order, retroactive to August 19, 1993, given that producers accounting for substantially all of the production of the domestic like product have expressed a lack of interest in the order (see Certain Cold-Rolled Carbon Steel Flat Products From the Netherlands: Initiation and Preliminary Results of Changed Circumstances Review, 66 FR 57415 (November 15, 2001)). In our preliminary results we invited interested parties to comment on our preliminary results. We received no comments. Therefore, our final results of the changed circumstances review remain the same as our preliminary results and the Department hereby revokes this order with respect to all unliquidated entries for consumption of the subject merchandise made from August 19, 1993 through January 1, 2000.

FOR FURTHER INFORMATION CONTACT: Michael Ferrier or Abdelali Elouaradia, Import Administration, International Trade Administration, U.S. Department of Commerce, 14th Street and Constitution Avenue, NW, Washington, DC 20230; telephone (202) 482-1394 or (202) 482-1374, respectively.

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to the regulations at 19 CFR part 351 (2001).

SUPPLEMENTARY INFORMATION:

Background

On August 19, 1993, the Department published in the Federal Register the antidumping duty order on certain cold-rolled carbon steel flat products from the Netherlands (see Antidumping Duty Order and Amendments to Final Determinations of Sales at Less Than Fair Value: Certain Hot-Rolled Carbon Steel Flat Products and Certain Cold-Rolled Carbon Steel Flat Products from the Netherlands, 58 FR 44172 (August 19, 1993)). On December 15, 2000, the Department published in the Federal Register a revocation of the order effective January 1, 2000 (see Revocation of Antidumping and Countervailing Duty Orders on Certain Carbon Steel Products From Canada, Germany, Korea, the Netherlands, and Sweden, 65 FR 78467). On September 18, 2001, Bethlehem Steel Corporation, LTV Steel Company, Inc., National Steel Corporation, and United States Steel LLC (collectively, “petitioners”) requested that the order be revoked retroactively to August 19, 1993. In this letter, petitioners indicated that their revocation request applies to all unliquidated entries for consumption of the subject merchandise made from August 19, 1993 through January 1, 2000, and that domestic producers accounting for at least 85 percent of production have expressed a lack of interest in the order with respect to this period prior to January 1, 2000. On November 15, 2001, the Department published a notice of initiation and preliminary results the a changed circumstances review for a revocation of the antidumping duty order on certain cold-rolled carbon steel flat products from the Netherlands. The Department issued its preliminary results and intent to revoke the antidumping duty order, retroactive to August 19, 1993, given that producers accounting for substantially all of the production of the domestic like product have expressed a lack of interest in the order.

Final Results of Review: Revocation of the Antidumping Duty Order

Pursuant to section 751(d)(1) of the Act, the Department may revoke an antidumping duty order based on a review under section 751(b) of the Act (i.e., a changed circumstances review). Section 782(h)(2) of the Act and § 351.222(g)(1)(i) of the Department's regulations provide that the Secretary may revoke an order, in whole or in part, based on changed circumstances if “{p}roducers accounting for substantially all of the production of the domestic like product to which the order (or the part of the order to be revoked) * * * have expressed a lack of interest in the order, in whole or in part. * * *” In this context, the Department has interpreted “substantially all” production normally to mean at least 85 percent of domestic production of the like product (see, e.g., Certain Hot-Rolled Lead and Bismuth Carbon Steel Products From the United Kingdom: Final Results of Changed-Circumstances Antidumping and Countervailing Duty Administrative Reviews, Revocation of Orders, and Recission of Administrative Reviews, 65 FR 13713, 13714 (March 14, 2000)).

Petitioners are domestic interested parties as defined by section 771(9)(C) of the Act and 19 CFR 351.102(b). Petitioners indicate that they, along with other domestic producers that have expressed a lack of interest in the order retroactive to August 19, 1993, represent at least 85 percent of the domestic production of the domestic like product to which this order pertains, and thus account for “substantially all” of the production of the domestic like product.

In this changed circumstances review we have determined to revoke the order in part, retroactive to August 19, 1993, for unliquidated entries in light of the submission by petitioners and particularly in light of the fact that the parties to the litigation concerning these entries have agreed to withdraw their appeals; there is only one importer of record; and we received no comments following our preliminary results of November 15, 2001. We hereby notify the public of our revocation in whole the antidumping duty order on certain cold-rolled carbon steel flat products from the Netherlands retroactive to August 19, 1993.

Upon dismissal by the courts of the pending appeals, we will instruct the Customs Service to refund any estimated antidumping duties collected for all unliquidated entries of certain cold-rolled carbon steel flat products from the Netherlands entered, or withdrawn from warehouse, for consumption on or after August 19, 1993. We will also instruct the Customs Service to pay interest on any refunds with respect to the subject merchandise entered, or withdrawn from warehouse, for consumption on or after August 19, 1993, in accordance with section 778 of the Act.

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This determination is issued and published in accordance with sections 751(b)(1) and 777(i)(1) of the Act and § 351.216 of the Department's regulations.

Dated: February 26, 2002.
Joseph A. Spetrini,
Acting Assistant Secretary for Import Administration.

[FR Doc. 02-5209 Filed 3-4-02; 8:45 am]

BILLING CODE 3510-DS-P